DEPARTMENT OF ENERGY

Federal Energy Regulatory Commission

[Docket Nos. AD22-11-000, AD21-9-000]

Office of Public Participation Fundamentals for Participating in FERC Matters; Supplemental Notice of Virtual Workshop: Workshop “Tips For Powerful Comments”

On January 25, 2023, the Federal Energy Regulatory Commission Office of Public Participation (OPP) issued a notice of a virtual workshop on February 23, 2023 from 1:00 p.m. to 2:30 p.m. Eastern time, to discuss tips for writing powerful comments.

The workshop will feature Commissioner James Danly and directors from the Office of Energy Projects, the Office of Energy Market Regulation, and the Office of Energy Policy and Innovation, who will share their views on the role of comments in Commission decision-making to facilitate increased and effective public participation. OPP staff will present useful tips for writing powerful comments. There will also be three question-and-answer portions during the workshop.

The workshop will be open and free for the public to participate. Further details on the agenda, including registration information, can be found on the OPP website. Information on this workshop will also be posted on the Calendar of Events on the Commission's website, www.ferc.gov, prior to the event.

WorkshOPP: “Tips for Powerful Comments” Agenda
1:00-1:10 p.m | Introduction.
1:10-1:30 p.m | Commissioner James Danly. Questions and Answers.
1:30-2:15 p.m | Office Director's Panel. Questions and Answers.
2:15-2:30 p.m | OPP Presentation: Comment. Opportunities and Top Five Tips. Questions and Answers.

Simultaneous Spanish interpretation and American Sign Language interpretation will be offered during the workshop. To access the simultaneous Spanish interpretation version of the workshop, please join the event via the Zoom link available on the FERC events page. The workshop will be accessible under section 508 of the Rehabilitation Act of 1973. For accessibility accommodations, please send an email to accessibility@ferc.gov or call toll free 1-866-208-3372 (voice) or 202-502-8659 (TTY), or send a FAX to 202-208-2106 with the required accommodations.

For more information about the workshop, please contact Amanda Bradshaw of the Commission's Office of Public Participation at 202-502-6543 or send an email to OPP@ferc.gov. To submit a question that you would like answered during the workshop, please email OPPWorkshop@ferc.gov.

Dated: February 14, 2023.
Kimberly D. Bose,
Secretary.

[FR Doc. 2023-03544 Filed 2-17-23; 8:45 am]

BILLING CODE 6717-01-P